DEPARTMENT OF THE INTERIOR

National Park Service

[NPS-WASO-NRNHL-22604; PPWOCRADI0, PCU00RP14.R50000]

National Register of Historic Places; Notification of Pending Nominations and Related Actions

AGENCY: National Park Service, Interior.

ACTION: Notice.

SUMMARY: The National Park Service is soliciting comments on the significance of properties nominated before December 10, 2016, for listing or related actions in the National Register of Historic Places.

DATES: Comments should be submitted by January 26, 2017.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before December 10, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

ARIZONA

Cochise County

Mountain View Officers' Club, Kilbourn Ave., Ft. Huachuca, SG100000549

Maricopa County

Peoria High School Old Main, 11200 N. 83rd Ave., Peoria, SG100000551

Pima County

Brown, Grace and Elliot, House, (Single Family Residential Architecture of Josias Joesler and John and Helen Murphey MPS MPS), 5025 N. Camino Escuela, Tucson, MP100000550

ARKANSAS

Garland County

Aristocrat Motor Inn, 240 Central Ave., Hot Springs, SG100000552

Hot Spring County

Lake Catherine State Park Prisoner of War Structures, 1200 Catherine Park Rd., Hot Springs vicinity, SG100000553

Mississippi County

Minaret Manor, 844 W. Semmes, Osceola, SG100000554

Monroe County

Brinkley Concrete Streets, Ash St, between Main St. & New York Ave. & New York Ave. between Ash & Lynn Sts., Brinkley, SG100000555

Ouachita County

St. John's Episcopal Church, 117 Harrison St., Camden, SG100000556

Pulaski County

Darragh Building, 1403 E. 6th Ave., Little Rock, SG100000557

Sebastian County

First Evangelical Lutheran Church, 1115 N. D St., Fort Smith, SG100000558

DISTRICT OF COLUMBIA

District of Columbia

Chilchester Arms Apartments, (Apartment Buildings in Washington, DC, MPS MPS), 1388 Tuckerman St. NW., Washington, MP100000559

IDAHO

Blaine County

Hailey Methodist Episcopal Church, 200 2nd Ave. S., Hailey, SG100000560

ILLINOIS

Cook County

Carling Hotel, (Residential Hotels in Chicago, 1910-1930 MPS), 1512 N. LaSalle St., Chicago, MP100000563

IOWA

Muscatine County

McColm, Laura Musser, Historic District, 1314 Mulberry Ave., Muscatine, SG100000562

Polk County

Home Federal Savings and Loan Association of Des Moines Building, 601 Grand Ave., Des Moines, SG100000561

MINNESOTA

Brown County

District No. 50 School, 20837 US 14, Milford Township, SG100000564

Hubbard County

Consolidated School District No. 22, 25895 Cty. Rd. 9, Helga Township, SG100000565

MISSOURI

Pulaski County

Devil's Elbow Historic District, (Route 66 in Missouri MPS MPS), 12175, 12177, 12198 Timber Rd., 21050, 21104, 21141, 21150 Teardrop Rd., Devil's Elbow, MP100000566

Piney Beach, (Route 66 in Missouri MPS MPS), 1280 Tank Ln., Hooker, MP100000567

OHIO

Hamilton County

Brunswick—Balke—Collender Building, 130-132 E. 6th St., Cincinnati, SG100000568

Reakirt Building, 126-128 E. 6th St., Cincinnati, SG100000569

First National Bank Building, 105 E. 4th St., Cincinnati, SG100000570

SOUTH CAROLINA

Richland County

Olympia Union Hall, 119 S. Parker St, Columbia, SG100000571

WEST VIRGINIA

Cabell County

Memphis Tennessee Garrison House, 1701 10th Ave., Huntington, SG100000573

Jefferson County

Feagans' Mill Complex, 28 Feagans' Mill Ln., Charles Town vicinity, SG100000572

WISCONSIN

Marathon County

Marathon Shoe Company East Side Plant, 1418 N. 1st St., Wausau, SG100000574

Vernon County

Harris, George and Mable, Round Barn, S1123 Harris Rd., Forest, SG100000575

A request for removal has been made for the following resource(s):

ARKANSAS

Conway County

Cove Creek Bridge, AR 124, Martinville vicinity, OT04000499

Lawrence County

US 63 Black River Bridge, (Historic Bridges of Arkansas MPS MPS), US 63, Black Rock, OT00000631

Little River County

S.S.P. Mills and Son Building, (Railroad Era Resources of Southwest Arkansas MPS MPS), Jct. of Texarkana Ave. and Main St., NW corner, Wilton, OT96000631

Marion County

Bruno School Building, (Public Schools in the Ozarks MPS MPS), Co. Rd. 9, Bruno, OT92001112

Mississippi County

Mississippi County Jail, (Osceola MRA MPS), 300 S. Poplar St., Osceola, OT87001356

Additional documentation has been received for the following resource(s):

ARKANSAS

Benton County

Bella Vista Water Tank, (Benton County MRA MPS), Jct. of Suits Us Dr. and Pumpkin Hollow Rd., Bella Vista vicinity, AD92000985

Faulkner County

Conway Commercial Historic District, Roughly bounded by Main St on the S, Harkrider St and Spencer St on the E, just S of Mill St to the N, and Locust St, Conway, AD10000779

KENTUCKY

Logan County

Russellville Historic District, Roughly bounded by 2nd, 9th, Caldwell, and Nashville Sts., Russellville, AD76000919

WASHINGTON

Lewis County

Jackson, John R., House, At Mary's Corner, 11 mi. S of Chehalis on Jackson Hwy., Chehalis vicinity, AD74001968

Authority: 60.13 of 36 CFR Part 60.

Dated: December 19, 2016.
J. Paul Loether,
Chief, National Register of Historic Places/National Historic Landmarks Program.

[FR Doc. 2017-00347 Filed 1-10-17; 8:45 am]

BILLING CODE 4312-52-P